POSTAL SERVICE

Change in Rates of General Applicability for Competitive Products

AGENCY: Postal Service™.

ACTION: Notice of a change in rates of general applicability for competitive products.

SUMMARY: This notice sets forth changes in rates and classifications of general applicability for competitive products.

DATES: The rate change is effective July 14, 2024.

FOR FURTHER INFORMATION CONTACT: Elizabeth Reed, 202-268-3179.

SUPPLEMENTARY INFORMATION: On May 9, 2024, pursuant to their authority under 39 U.S.C. 3632, the Governors of the Postal Service established price changes for competitive products. The Governors' Decision and the record of proceedings in connection with such decision are reprinted below in accordance with section 3632(b)(2). Mail Classification Schedule language containing the new prices can be found at www.prc.gov.

Sarah Sullivan,
Attorney, Ethics & Legal Compliance.

Decision of the Governors of the United States Postal Service on Changes in Rates of General Applicability for Competitive Products (Governors' Decision No. 24-3)

May 9, 2024

Statement of Explanation and Justification

Pursuant to authority under section 3632 of title 39, as amended by the Postal Accountability and Enhancement Act of 2006 (“PAEA”), we establish price changes of general applicability for the Postal Service's shipping services (competitive products), specifically, Parcel Select. The changes are described generally below, with a detailed description of the changes in the Postal Service's associated draft Mail Classification Schedule change document. That document contains the draft Mail Classification Schedule sections with new prices displayed in the price charts.

The Parcel Select price changes for July 2024 are designed to better align the Postal Service's product and pricing strategies with its operating model and goals. In order to more effectively utilize the postal processing and transportation network and realize enhanced economies, the Postal Service no longer intends to incent parties to aggregate mail volume from multiple shippers and to bring such volume directly to the destination delivery unit.

Accordingly, Parcel Select prices as a whole will increase 25.0 percent on average in July 2024. For destination delivery unit (DDU) entered parcels, the average price increase is 43.4 percent. These aggressive price changes for DDU promote full utilization of network processing and transportation capacity to achieve lower unit costs by realigning rate relationships across entry points. For destination hub (Dhub) entered parcels, the average price increase is 0.0 percent. For destination sectional center facility (DSCF) entered parcels, the average price increase is 8.6 percent. For destination network distribution center (DNDC) parcels, the average price increase is 18.6 percent. Prices for USPS Connect Local will increase 15.9 percent on average, in order to align with the DDU prices. No other price changes to the Parcel Select product, or any other competitive products, are established with this Decision.

As shown in the nonpublic annex being filed under seal herewith, the changes we establish should enable each competitive product to cover its attributable costs (39 U.S.C. 3633(a)(2)) and should result in competitive products as a whole complying with 39 U.S.C. 3633(a)(3), which, as implemented by 39 CFR 3035.107(c), requires competitive products collectively to contribute a minimum of 9.9 percent to the Postal Service's institutional costs. Accordingly, no issue of subsidization of competitive products by market dominant products should arise (39 U.S.C. 3633(a)(1)). We therefore find that the new prices and classification changes are in accordance with 39 U.S.C. 3632-3633 and 39 CFR 3035.102 and 104.

Order

The changes in prices set forth herein shall be effective at 12:01 a.m. on July 14, 2024. We direct the Secretary to have this decision published in the Federal Register in accordance with 39 U.S.C. 3632(b)(2) and direct management to file with the Postal Regulatory Commission appropriate notice of these changes.

By The Governors:

Roman Martinez IV

Chairman, Board of Governors.

UNITED STATES POSTAL SERVICE OFFICE OF THE BOARD OF GOVERNORS

Certification of Governors' Vote on Governors' Decision NO. 24-3

Consistent with 39 U.S.C. 3632(a), I hereby certify that, on May 9, 2024, the Governors voted on adopting Governors' Decision No. 24-3, and that a majority of the Governors then holding office voted in favor of that Decision.

Date: May 9, 2024.

Michael J. Elston,

Secretary of the Board of Governors.

[FR Doc. 2024-10907 Filed 5-16-24; 8:45 am]

BILLING CODE 7710-12-P